DEPARTMENT OF COMMERCE

National Oceanic and Atmospheric Administration

[Docket No. 130425411-3411-01]

Notice To Extend the Deadline for Applications for the Ocean Exploration Advisory Board (OEAB)

AGENCY: Office of Oceanic and Atmospheric Research (OAR), National Oceanic and Atmospheric Administration (NOAA), Department of Commerce.

ACTION: Notice; Extension of Deadline.

SUMMARY: OAR publishes this notice to extend the deadline for persons with appropriate education, interest, and/or experience to submit applications to become a member of the OEAB. The purpose of the OEAB is to advise the Under Secretary of Commerce for Oceans and Atmosphere on matters pertaining to ocean exploration including: The identification of priority areas that warrant exploration; the development and enhancement of technologies for exploring the oceans; managing the data and information; and disseminating the results. The OEAB will also provide advice on the relevance of the program with regard to the NOAA Strategic Plan, the National Ocean Policy Implementation Plan, and other relevant guidance documents.

DATES: Application materials should be sent to the address, email, or fax specified and must be received no later than 5:00 p.m., Eastern Time, on June 6, 2013.

ADDRESSES: Submit resume and application materials to Yvette Jefferson via mail, fax, or email. Mail: NOAA, 1315 East-West Highway, SSMC3 Rm. 10315, Silver Spring, MD 20910; Fax: 301-713-1967; email: Yvette.Jefferson@noaa.gov.

FOR FURTHER INFORMATION CONTACT: Yvette Jefferson, NOAA, 1315 East-West Highway, SSMC3 Rm. 10315, Silver Spring, MD 20910; Fax: 301-713-1967; email: Yvette.Jefferson@noaa.gov; Telephone: 301-734-1002.

SUPPLEMENTARY INFORMATION: NOAA's Ocean Exploration Program (OE) is part of the NOAA Office of Ocean Exploration and Research. The mission of the OE is to increase the Nation's understanding of the world's largely unknown ocean through interdisciplinary expeditions and projects to investigate unknown and poorly known ocean areas and phenomena.

Specific goals include:

(1) Mapping and characterizing physical, chemical, and biological ocean environments, as well as submerged cultural history;

(2) Investigating ocean dynamics and interactions in new places and at new scales;

(3) Developing new ocean sensors and systems to increase the pace and efficiency of ocean exploration; and

(4) Disseminating information to a broad spectrum of users through formal and informal education and outreach programs.

For more information on OE please visit the Web sites: http://Oceanexplorer.noaa.gov and http://explore.noaa.gov. On October 29, 2012, NOAA published a notice in the Federal Register soliciting applications for membership on the OEAB (77 FR 65536). After reviewing the applications received to date, NOAA has decided to extend the deadline for submissions to achieve balance across the diverse sectors of the ocean exploration community. If you have already submitted an application for the OEAB, you do not need to do anything else at this time.

This notice extends the deadline for submitting applications for membership on the OEAB. The purpose of the OEAB is to advise the Under Secretary of Commerce for Oceans and Atmosphere (Under Secretary), who is also the Administrator of NOAA, on matters pertaining to ocean exploration including: The identification of priority areas that warrant exploration; the development and enhancement of technologies for exploring the oceans; managing the data and information; and, disseminating the results. The OEAB will also provide advice on the relevance of the program with regard to the NOAA Strategic Plan, the National Ocean Policy Implementation Plan, and other relevant guidance documents.

Authority to Which the Committee Reports: The Board will report to the Under Secretary, as directed by Section 12005 of the Outer Continental Shelf Lands Act (43 U.S.C. 1331 et seq.) part of the Omnibus Public Land Management Act of 2009 (33 U.S.C. 3405). The OEAB shall function solely as an advisory body in accordance with the Federal Advisory Committee Act (FACA), as amended, 5 U.S.C. App., with the exception of section 14.

Description of Duties: The Board shall:

a. Advise the Under Secretary on all aspects of ocean exploration including areas, features, and phenomena that warrant exploration; and other areas of program operation, including development and enhancement of technologies for exploring the ocean, managing ocean exploration data and information, and disseminating the results to the public, scientists, and educators;

b. Assist the program in the development of a 5-year strategic plan for the fields of ocean, marine, and Great Lakes science, exploration, and discovery, as well as making recommendations to NOAA on the evolution of the plan based on results and achievements;

c. Annually review the quality and effectiveness of the proposal review process established under Section 12003(a)(4); and

d. Provide other assistance and advice as requested by the Under Secretary.

Points of View: The OEAB will consist of approximately ten members including a Chair and Co-chair, designated by the Under Secretary in accordance with FACA requirements. Consideration will be given to candidates who are experts in fields relevant to ocean exploration, including ocean scientists, engineers and technical experts, educators, social scientists, and communications experts. Membership will be open to all individuals who have degrees, professional qualifications, scientific credentials, national reputations, international reputations, or relevant experience that will enable them to provide expert advice concerning the OE's roles within the context of NOAA's ocean missions and policies. Members will be appointed for 3-year terms, renewable once, and serve at the discretion of the Under Secretary. The Chair and Co-chair will serve 3-year terms renewable once. Initial appointments will include: Four members serving an initial 3-year term, three members serving an initial 4-year term and three members serving an initial 5-year term. All renewals will be 3-year terms. If a member resigns before the end of his or her first term, the vacancy appointment shall be for the remainder of the unexpired term, and shall be renewable twice if the unexpired term is less than one year.

Members will be appointed as special government employees (SGEs) and will be subject to the ethical standards applicable to SGEs. Members are reimbursed for actual and reasonable expenses incurred in performing such duties but will not be reimbursed for their time.

As a Federal Advisory Committee the OEAB's membership is required to be balanced in terms of viewpoints represented and the functions to be performed as well as including the interests of geographic regions of the country and the diverse sectors of our society.

The OEAB will meet two times each year, exclusive of subcommittee, task force, and working group meetings.

Applications

An application is required to be considered for OEAB membership. To apply, submit a current resume (maximum length 4 pages) as indicated in the ADDRESSES section that includes: (1) The applicant's full name, title, institutional affiliation, and contact information (mailing address, email, telephones, fax); (2) the applicant's area(s) of expertise; and (3) a short description of his/her qualifications relative to the kinds of advice being solicited. A cover letter stating their interest in serving on the OEAB and highlighting specific areas of expertise relevant to the purpose of the OEAB is required.

Dated: April 30, 2013.
Jason Donaldson,
Chief Financial Officer/Chief Administrative Officer, Office of Oceanic and Atmospheric Research, National Oceanic and Atmospheric Administration.

[FR Doc. 2013-10828 Filed 5-6-13; 8:45 am]

BILLING CODE 3510-KA-P